DEPARTMENT OF COMMERCE

National Oceanic and Atmospheric Administration

RIN 0648-XA400

Gulf of Mexico Fishery Management Council; Public Meeting

AGENCY: National Marine Fisheries Service (NMFS), National Oceanic and Atmospheric Administration (NOAA), Commerce.

ACTION: Council to convene a public meeting.

SUMMARY: The Gulf of Mexico Fishery Management Council will convene a meeting of the Standing, Special Mackerel and Special Reef Fish Scientific and Statistical Committees (SSC).

DATES: The meeting will convene at 9 a.m. on Tuesday, May 17, 2011 and conclude by 2 p.m. on Thursday, May 19, 2011.

ADDRESSES: The meeting will be held at the Gulf of Mexico Fishery Management Council, 2203 North Lois Avenue, Suite 1100, Tampa, FL 33607, telephone: (813) 348-1630.

FOR FURTHER INFORMATION CONTACT: Steven Atran, Population Dynamics Statistician; Gulf of Mexico Fishery Management Council; telephone: (813) 348-1630.

SUPPLEMENTARY INFORMATION: The Standing and Special Mackerel SSC will meet jointly on Tuesday, May 17, 2011 to review available biological information and reconsider its overfishing limit (OFL) and acceptable biological catch (ABC) recommendations from its March meeting for Gulf group Spanish mackerel and cobia. The remainder of the meeting will be a joint meeting of the Standing and Special Reef Fish SSC. The Standing and Special Reef Fish SSC will discuss the protocols and requirements for transcribing and recording of its meetings. The SSC will then review benchmark assessments of yellowedge grouper and tilefish, and will recommend OFL and ABC based on the assessments and the ABC control rule. The SSC will also review reruns of the projection analyses for the 2009 update assessments of gag, red grouper and red snapper, but will incorporate actual landings data for 2009 and 2010 rather than the original projected landings for those years, and will reconsider its ABC recommendations for 2011 and beyond based on the results of the reruns. Finally, the SSC will review and recommend OFL and ABC using the ABC control rule for several data-poor stocks and stock groupings that resulted from revisions to the proposed stock grouping made at the April Council meeting, including a revised mid-water snapper complex (silk snapper, Wenchman), tilefish complex (tilefish, blueline tilefish, goldface tilefish), shallow-water grouper complex (black grouper, scamp, yellowmouth grouper), deep-water grouper complex (yellowedge grouper, warsaw grouper, snowy grouper, speckled hind), and Cubera snapper. The above actions are to assist the Council in preparing a generic amendment to set annual catch limits and accountability measures for stocks under its management.

Copies of the agenda and other related materials can be obtained by calling (813) 348-1630 or can be downloaded from the Council's ftp site, ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Council (see ADDRESSES) at least 5 working days prior to the meeting.

Dated: April 26, 2011.
Tracey L. Thompson,
Acting Director, Office of Sustainable Fisheries, National Marine Fisheries Service.

[FR Doc. 2011-10373 Filed 4-28-11; 8:45 am]

BILLING CODE 3510-22-P